DEPARTMENT OF VETERANS AFFAIRS

[OMB Control No. 2900-NEW]

Proposed Information Collection (Board of Veterans' Appeals, Voice of the Veteran Call Center Survey) Activity: Comment Request

AGENCY: Board of Veterans Affairs, Department of Veterans Affairs.

ACTION: Notice.

SUMMARY: The Board of Veterans Affairs (BVA), Department of Veterans Affairs (VA), is announcing an opportunity for public comment on the proposed collection of certain information by the agency. Under the Paperwork Reduction Act (PRA) of 1995, Federal agencies are required to publish notice in the Federal Register concerning each proposed collection of information, including each new collection, and allow 60 days for public comment in response to the notice. This notice solicits comments information needed to enable the Board to gauge the effectiveness of its Veterans Information Office (VIO) Call Center in delivering information and assistance to its Veterans, as well as assess the Veterans' overall level of satisfaction with the VIO Call Center experience. In addition, the data will be used by the Board to make improvements to the VIO Call Center operational processes and service delivery, which in turn, will enable the Board to serve its Veterans in the most efficient and effective way possible.

DATES: Written comments and recommendations on the proposed collection of information should be received on or before November 5, 2013.

ADDRESSES: Submit written comments on the collection of information through the Federal Docket Management System (FDMS) at www.Regulations.gov or to Sue Hamlin, BVA, (01C2), Department of Veterans Affairs, 810 Vermont Avenue NW., Washington, DC 20420 or email sue.hamlin@va.gov. Please refer to “OMB Control No. 2900-NEW Board of Veterans' Appeals, Voice of the Veteran Call Center Survey” in any correspondence. During the comment period, comments may be viewed online through FDMS.

FOR FURTHER INFORMATION CONTACT: Sue Hamlin at (202) 632-632-5100.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: Board of Veterans' Appeals, Voice of the Veteran Call Center Survey.

OMB Control Number: 2900-NEW, Board of Veterans' Appeals, Voice of the Veteran Call Center Survey.

Type of Review: New collection.

Abstract: Currently, the Board collects customer satisfaction on a very limited basis. Survey cards are distributed to the appellant if a hearing is conducted and the Board relies on respondents to mail in the postcard. The survey card only measures the appellant's satisfaction with the hearing process and response rates are low. The Board will benefit from obtaining direct feedback from its Veterans and appellants regarding their recent VIO Call Center experience. Specifically, the Veterans' feedback will provide the Board three key benefits: (1) Identify what is most important to its Veterans and appellants in determining their satisfaction with their VIO Call Center experience; (2) determine what to do to improve the call center experience; and (3) serve to guide training and/or operational activities aimed at enhancing the quality of service provide to its Veterans.

Affected Public: Individuals or Households.

Estimated Annual Burden: 2,000.

Estimated Average Burden per Respondent: 4 minutes.

Frequency of Response: Quarterly.

Estimated Number of Respondents: 20,000.

Dated: September 3, 2013.
By direction of the Secretary.
Crystal Rennie,
VA Clearance Officer, U.S. Department of Veterans Affairs.

[FR Doc. 2013-21692 Filed 9-5-13; 8:45 am]

BILLING CODE 8320-01-P